DEPARTMENT OF THE INTERIOR

Bureau of Land Management

[LLWYL03000-L51010000-FX0000-LVRWK09K1030; WYW-167155]

Notice of Availability of the Record of Decision for the Chokecherry and Sierra Madre Wind Energy Project and Approved Visual Resource Management Plan Amendment for Public Lands Administered by the Bureau of Land Management, Rawlins Field Office, Carbon County, Wyoming

AGENCY: Bureau of Land Management, Interior.

ACTION: Notice of availability.

SUMMARY: The Bureau of Land Management (BLM) announces the availability of the Record of Decision (ROD) for the Chokecherry and Sierra Madre Wind Energy Project and Approved Plan Amendment to the Rawlins Resource Management Plan (RMP) for Visual Resource Management (VRM), the applicable plan for the project site and the surrounding areas located in the Rawlins Field Office. The Secretary of the Interior signed the ROD on October 9, 2012, which constitutes the final decision of the Department.

ADDRESSES: Copies of the ROD including the Approved Plan amendment to the Rawlins RMP are available upon request from the BLM Rawlins Field Office, 1300 North Third Street, Rawlins, Wyoming; or via the Internet at the following Web site: http://www.blm.gov/wy/st/en/info/NEPA/documents/rfo/Chokecherry.html.

FOR FURTHER INFORMATION CONTACT: Pamela Murdock, BLM Project Manager, at 307-775-6259; through mail at BLM Wyoming State Office, 5353 Yellowstone Road, Cheyenne, WY 82007; or email at pmurdock@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM evaluated the potential wind energy development on a broad level to determine appropriate areas and restrictions for the Power Company of Wyoming, LLC (PCW) to develop a wind energy facility on public lands in the Application Area administered by the BLM in compliance with the Federal Land Policy and Management Act of 1976, BLM right-of-way (ROW) regulations, and other applicable Federal laws. This decision does not authorize development of the wind energy project; rather, it sets the parameters for which future ROW applications may be submitted by PCW. The ROW applications will be screened against the analysis conducted in this environmental impact statement (EIS), and then the appropriate level of subsequent, tiered National Environmental Policy Act analysis will be conducted prior to the BLM issuing a decision on ROW applications. The BLM selected this manner of analyzing the project based on its size and complexity of resources. Accordingly, through this decision the BLM is (1) determining whether the area identified in PCW's proposal is appropriate for wind energy development; (2) Identifying the requirements for future wind development in the area; and (3) Amending the VRM class decision portions of the 2008 Rawlins RMP for the designated Decision Area. Two resulting decisions are as follows: (1) The BLM has determined that portions of the Application Area are suitable for wind energy development and associated facilities on public lands subject to the requirements for all future wind development in the area as described under the Preferred Alternative in the CCSM project Final EIS, herein referred to as the Selected Alternative. The Selected Alternative analyzed a wind energy development proposal by PCW in the 219,707-acre alternative boundary to accommodate development of a 2,000- to 3,000-megawatt (MW) project consisting of up to 1,000 turbines and ancillary facilities in the two sites—the 109,086-acre Chokecherry site and the 110,161-acre Sierra Madre site—and off-site access on 460 acres. Power generated by the project would be routed to one or more of up to five potential transmission lines analyzed in detail in separate EISs or an existing transmission line on the northern edge of the Project Site, all of which were considered in the cumulative impact analysis for this project. (2) The BLM is requiring that certain project design features and mitigation measures be incorporated into any future CCSM wind energy development authorizations. These design features and mitigation measures include the identified BLM environmental constraints, applicant-committed measures and best management practices, and mitigation measures identified through the EIS process. The CCSM project also would be subject to additional constraints identified in the Programmatic Agreement for cultural and Native American resources, Biological Opinion, development of Eagle Conservation Plans (ECPs) and Avian Protection Plans (APPs) in coordination with the U.S. Fish and Wildlife Service (USFWS), and other monitoring and implementation plans amended to the ROW grant. The BLM will not issue ROWs for the Chokecherry and Sierra Madre portions of the project to PCW until USFWS issues letters of concurrence for the APPs and ECPs.

The Proposed Plan Amendment/Final EIS and CCSM Project Final EIS were released for a 30-day public review and protest period commencing on June 29, 2012. At the close of the 30-day protest period on July 30, 2012, thirteen timely and complete written protests were received and resolved. Their resolution is summarized in the Director's Protest Summary Report attached to the ROD. The proposed amendment to the Rawlins RMP was not modified as a result of the protest resolution. Simultaneously with the protest period, the Governor of Wyoming conducted a 60-day consistency review of the proposed Rawlins RMP Amendment to identify any inconsistencies with State or local plans, policies or programs; no inconsistencies were identified.

Because this decision is approved by the Secretary of the Interior, it is not subject to administrative appeal (43 CFR 4.410(a)(3)).

Authority: 40 CFR 1506.6.

Timothy Spisak,
Deputy Assistant Director, Minerals and Realty Management, Bureau of Land Management.

[FR Doc. 2012-25384 Filed 10-15-12; 8:45 am]

BILLING CODE 4310-84-P